DEPARTMENT OF HOMELAND SECURITY

Federal Emergency Management Agency

RIN 1660-ZA10

Application Period for the Assistance Program Under the 9/11 Heroes Stamp Act of 2001

Editorial Note: FR Doc. E5-6749 was originally published at page 72305 in the issue of Friday, December 2, 2005. In that publication two dates were incorrectly computed. The corrected document is republished below in its entirety.

AGENCY: United States Fire Administration (USFA), Federal Emergency Management Agency, Department of Homeland Security.

ACTION: Notice.

SUMMARY: The 9/11 Heroes Stamp Act of 2001 directed the United States Postal Service to issue a semipostal stamp and distribute the proceeds through the Federal Emergency Management Agency to the families of emergency relief personnel killed or permanently disabled while serving in the line of duty in connection with the terrorist attacks against the United States on September 11, 2001. This notice announces the application period for the Assistance Program Under the 9/11 Heroes Stamp Act of 2001.

DATES: The application period for the Assistance Program Under the 9/11 Heroes Stamp Act of 2001 starts on December 2, 2005 and closes on April 3, 2006.

FOR FURTHER INFORMATION CONTACT: Tom Olshanski, Heroes Stamp, USFA, National Emergency Training Center (NETC), 16825 South Seton Avenue, Emmitsburg, MD 21727, or call 1-866-887-9107, or send e-mail to FEMA-HeroesStamp@dhs.gov.

SUPPLEMENTARY INFORMATION: The 9/11 Heroes Stamp Act of 2001, Public Law 107-67, sec. 652, 115 Stat. 514 (Nov. 12, 2001) (Heroes Stamp Act), directed the United States Postal Service to issue a semipostal stamp and distribute the proceeds through the Federal Emergency Management Agency (FEMA) to the families of emergency relief personnel killed or permanently disabled while serving in the line of duty in connection with the terrorist attacks against the United States on September 11, 2001. FEMA issued an interim final rule as the mechanism by which it will distribute the Heroes Stamp Act funds. See 70 FR 43214, July 26, 2005.

The application period for the Assistance Program Under the 9/11 Heroes Stamp Act of 2001 starts on December 2, 2005 and closes on April 3, 2006. A copy of the application may be downloaded from http://www.usfa.fema.gov or you may obtain a copy by writing to Heroes Stamp, USFA, NETC, 16825 South Seton Avenue, Emmitsburg, MD 21727.

If you have questions, please call the toll free Helpline at 1-866-887-9107 or e-mail your questions to fema-heroesstamp@dhs.gov. For further information, please see http://www.usfa.fema.gov.

(The Catalog of Federal Domestic Assistance (CFDA) Number is 97.085.)

Dated: November 28, 2005.
R. David Paulison,
Acting Director, Federal Emergency Management Agency, Department of Homeland Security.

[FR Doc. E5-6749 Filed 12-1-05; 8:45 am]

Editorial Note: FR Doc. E5-6749 which was originally published at page 72305 in the issue of Friday, December 2, 2005 is being republished in its entirety in the issue of Wednesday, December 7, 2005 because of editing errors.

[FR Doc. R5-6749 Filed 12-6-05; 8:45 am]

BILLING CODE 1505-01-D